COMMITTEE FOR PURCHASE FROM PEOPLE WHO ARE BLIND OR SEVERELY DISABLED

Agency Information Collection Activities; Proposals, Submissions, and Approvals

AGENCY: Committee for Purchase From People Who Are Blind or Severely Disabled.

ACTION: Notice of information collection; request for comment.

SUMMARY: The Committee for Purchase From People Who Are Blind or Severely Disabled operates as the U.S. AbilityOne Commission (Commission). This notice announces the Commission's intent to submit the Information Collection Request (“ICR”) described below to the Office of Management and Budget (OMB) for approval under applicable provisions of the Paperwork Reduction Act. This notice provides an opportunity to interested members of the public and affected agencies to comment on a proposed Participating Employee Eligibility form.

DATES: Submit comments on or before January 16, 2024.

ADDRESSES: Submit comments to policy@abilityone.gov.

FOR FURTHER INFORMATION CONTACT: Christopher Stewart, Compliance and Enforcement Attorney, Office of General Counsel, U.S. AbilityOne Commission, 355 E Street SW, Suite 325, Washington, DC 20024; telephone: (703) 254-6172; email: cstewart@abilityone.gov. If you are deaf, hard of hearing, or have a speech disability and wish to access telecommunications relay services, please dial 7-1-1.

SUPPLEMENTARY INFORMATION:

Overview of ICR: This notice pertains to an ICR the Commission intends to submit to OMB to approve the form that an AbilityOne-participating nonprofit agency employer will fill out to document its determination of an individual's eligibility to be a participating employee in the AbilityOne Program. The form is an updated and modified version of the Commission's Individual Eligibility Evaluation (IEE) form (OMB Control # 3037-0012). The purpose of the IEE was to determine and document an individual's eligibility to participate in the AbilityOne Program by identifying the individual's barriers to employment as well as the job supports the individual needs to perform their job.

This ICR is consistent with OMB regulations at 5 CFR part 1320, which implement provisions of the Paperwork Reduction Act of 1995 (44 U.S.C. 3501 et seq.) These regulations require the Commission to provide an opportunity to interested members of the public and affected agencies to comment on information collection and recordkeeping activities (see 5 CFR 1320.8(d)) such as those proposed to be implemented through this form.

The Commission is responsible for implementing the Javits-Wagner-O'Day (JWOD) Act, 41 U.S.C. 8501-8506. In doing so, the Commission oversees the AbilityOne Program, an employment program in which individuals who are blind or have significant disabilities provide products and services to Federal agencies, thereby creating employment opportunities. The Commission maintains a Procurement List of mandatory source products and services provided by approximately 450 qualified nonprofit agencies (NPAs). The individuals who are blind or have significant disabilities working on AbilityOne contracts are called “participating employees.”

The Commission collects certain data from qualified NPAs regarding participating employees in order to ensure the integrity of the AbilityOne Program. Providing effective program stewardship requires collection of information to protect participating employees and ensure that positions intended for individuals who are blind or have significant disabilities are, in fact, filled by those individuals.

The proposed data collection form in this ICR is consistent with the Commission's responsibilities and ensures that the Commission will collect the most pertinent data to inform its oversight and decision making.

The form described in this ICR is the first of two forms intended to modernize the existing IEE form and align it with the Commission's strategic plan and updated approach to determining eligibility for participating employees. The Commission has outlined the criteria for eligibility for participating employees in its Policy 51.403, which will be published in final form on November 17, 2023, and will be effective on January 1, 2024.

As outlined in Policy 51.403, and reflected in the proposed form, a significant change in the Commission's approach to determining a prospective employee's eligibility for the AbilityOne Program is the Commission's acceptance of other governmental agency determinations of disability. For example, individuals deemed eligible for Social Security disability benefits are now automatically eligible to participate in the AbilityOne Program. The proposed form described in this ICR enables NPAs to certify that an individual has a determination of disability from a governmental agency, and in so doing, streamlines the process to qualify individuals for employment in the AbilityOne Program.

A draft version of the form NPAs will complete is available at www.abilityone.gov (see News and Events column on the homepage). For individuals who meet the eligibility requirements under either Part A or Part B of the proposed form, the Commission estimates that completing the form will take approximately 5 minutes. For individuals who meet the eligibility requirements under Part C or Part D of the proposed form, the Commission estimates that completing the form will take approximately 30 minutes. NPAs completing Part C or Part D of the form will need to complete Part E, as well, which is included in the estimated 30 minutes.

In accordance with these and other changes reflected in Policy 51.403, the Commission estimates that the time and financial burden to the NPAs in completing the proposed form will be significantly lower than required by the corresponding sections of the existing IEE form. Over time, this form will further substantially reduce the burden on NPAs because, in most cases, it will be filled out only once per employee—i.e., when an employee is onboarded—and not on an annual basis as required by the existing IEE form. For employees with a non-permanent disability, the form will be completed on a recurring, seven-year basis. The Commission estimates that approximately 10% of AbilityOne employees have non-permanent disabilities.

To calculate the burden for completion of the proposed form, the Commission considered an estimate from the Society for Human Resource Management that the average annual turnover across all industries is approximately 18 percent. Using this number, the Commission estimated that NPAs may need to complete this form for approximately 18 percent of their total employees each year. However, AbilityOne employers may experience lower turnover than employer in the general economy. The Commission acknowledges that net AbilityOne job growth may result in NPAs completing additional forms.

The table below shows the Commission's estimate for the average amount of time per employee for whom the NPAs complete a form, both in the first year of implementation (“Year 1”) and in the following years of implementation (“Years 2+”). The Commission recognizes that NPAs vary widely in total number of employees. Therefore, an NPA can apply this analysis based on their individual employment totals.

Number of employees for whom NPA must complete form | Annual turnover/entry rate of 18% | Maximum responses for this form | Annual form burden (hours/employee) | Total time burden for all employees (hours) | Annual form cost burden (dollars)
36,377 (Year 1) | 6,548 | 42,925 | 0.5 | 21,462.5 | 662,762
520 (Years 2+) | 6,548 | 7,068 | 0.5 | 3,534 | 109,130

NPAs can calculate their overall time burden (in hours) by multiplying the number of participating employees they have by 0.5. The cost burden is based upon national average pay data from the U.S. Bureau of Labor Statistics, using the May 2022 National Occupational Employment and Wage Estimate of $30.88 as the median hourly wage for a Human Resources Specialist (OC 13-1070). (https://www.bls.gov/oes/current/oes_nat.htm#11-0000)

With respect to this collection of information via the proposed form, the Commission welcomes comments on the following:

• The necessity to collect this information to support the Commission's mission and oversight responsibilities;

• Methodology to improve the accuracy of the estimated time burden; i.e., specific year-over-year employee turnover rates for NPAs or number of additional employee hires above turnovers, expressed as a percentage of the NPAs' total number of participating employees;

• Methodology to determine the percentage of participating employees who have non-permanent disabilities;

• Suggestions or methods to minimize the burdens associated with collecting the information described in this ICR.

Michael R. Jurkowski,
Acting Director, Business Operations.

[FR Doc. 2023-25499 Filed 11-16-23; 8:45 am]

BILLING CODE 6353-01-P